DEPARTMENT OF EDUCATION

[Docket No.: ED-2018-ICCD-0001]

Agency Information Collection Activities; Submission to the Office of Management and Budget for Review and Approval; Comment Request; Impact Evaluation of Departmentalized Instruction in Elementary Schools

AGENCY: Institute of Education Sciences (IES), Department of Education (ED).

ACTION: Notice.

SUMMARY: In accordance with the Paperwork Reduction Act of 1995, ED is proposing a new information collection.

DATES: Interested persons are invited to submit comments on or before May 14, 2018.

ADDRESSES: To access and review all the documents related to the information collection listed in this notice, please use http://www.regulations.gov by searching the Docket ID number ED-2018-ICCD-0001. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-32, Washington, DC 20202-4537.

FOR FURTHER INFORMATION CONTACT: For specific questions related to collection activities, please contact Thomas Wei, 202-341-0626.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Departmentalized Instruction in Elementary Schools.

OMB Control Number: 1850—NEW.

Type of Review: A new information collection.

Respondents/Affected Public: Individuals or Households.

Total Estimated Number of Annual Responses: 8,531.

Total Estimated Number of Annual Burden Hours: 3,202.

Abstract: This package requests clearance for data collection activities to support an evaluation of departmentalized instruction in elementary schools. This evaluation is authorized by Title VII Section 8601 of the Elementary and Secondary Education Act, as amended most recently in 2015 by the Every Student Succeeds Act (ESSA). ESSA gives states considerable flexibility in designing systems to hold their schools accountable for improving student achievement. This flexibility extends to the types of strategies that states encourage or require their low-performing schools to adopt. However, many strategies in use have little to no evidence of effectiveness. More research is needed to help states identify strategies that are likely to help their low-performing schools improve.

One potential strategy that has recently become more popular in upper elementary school grades is to departmentalize instruction, where each teacher specializes in teaching one subject to multiple classes of students instead of teaching all subjects to a single class of students (self-contained instruction). However, virtually no evidence exists on its effectiveness relative to the more traditional self-contained approach. This evaluation will help to fill the gap by examining whether departmentalizing fourth and fifth grade teachers improves teacher and student outcomes. The evaluation will focus on math and reading, with an emphasis on low-performing schools that serve a high percentage of disadvantaged students.

The evaluation will include implementation and impact analyses. The implementation analysis will describe schools' approaches to departmentalization and benefits and challenges encountered. The analysis will be based on information from schools' study agreement form; meetings to design each school's approach to departmentalization; monitoring and support calls with schools; a principal interview; and a teacher survey. The impact analysis will draw on data from a teacher survey, videos of classroom instruction, a principal interview, and district administrative records to estimate the impact of departmentalized instruction on various outcomes. The outcomes include the quality of instruction and student-teacher relationships, teacher satisfaction and retention, and student achievement and behavior. These various data collection activities will be carried out between spring 2018 and fall 2020, although most of the activities with the exception of the administrative data will take place only once during the first year treatment schools implement departmentalized instruction (2018-2019 school year).

Dated: March 12, 2018.
Stephanie Valentine,
Acting Director, Information Collection Clearance Division, Office of the Chief Privacy Officer, Office of Management.

[FR Doc. 2018-05258 Filed 3-14-18; 8:45 am]

BILLING CODE 4000-01-P